DEPARTMENT OF ENERGY

Federal Energy Regulatory Commission

[Project No. 14795-002]

Notice of Availability of Final Environmental Assessment; Shell Energy North America (US), L.P.

In accordance with the National Environmental Policy Act of 1969 and the Federal Energy Regulatory Commission's (Commission) regulations, 18 CFR part 380, the Office of Energy Projects has reviewed the application for license for the Hydro Battery Pearl Hill Pumped Storage Project, which would be located on Rufus Woods Lake, near Bridgeport, Douglas County, Washington and has prepared a Final Environmental Assessment (FEA) for the project. The project would be located on state lands except for the lower reservoir and power generation and pumping equipment which would be located on Rufus Woods Lake, a reservoir operated by the U.S. Army Corps of Engineers (Corps). The Corps, a cooperating agency for the preparation of this environmental assessment, is reviewing Shell's project for permits it would issue under sections 10 and 14 of the Rivers and Harbors act of 1899 and Section 404 of the Clean Water Act.

The FEA contains staff's analysis of the potential environmental impacts of the project and concludes that licensing the project, with appropriate environmental protective measures, would not constitute a major federal action that would significantly affect the quality of the human environment.

A copy of the FEA is available for review at the Commission in the Public Reference Room or may be viewed on the Commission's website at http://www.ferc.gov using the “eLibrary” link. Enter the docket number excluding the last three digits in the docket number field to access the document. For assistance, contact FERC Online Support at FERCOnlineSupport@ferc.gov, (866) 208-3676 (toll free), or (202) 502-8659 (TTY).

You may also register online at http://www.ferc.gov/docs-filing/esubscription.asp to be notified via email of new filings and issuances related to this or other pending projects. For assistance, contact FERC Online Support.

For further information, contact Ryan Hansen at (202) 502-8074 or at ryan.hansen@ferc.gov.

Dated: October 30, 2019.
Nathaniel J. Davis, Sr.,
Deputy Secretary.

[FR Doc. 2019-24163 Filed 11-5-19; 8:45 am]

BILLING CODE 6717-01-P